DEPARTMENT OF COMMERCE

National Oceanic and Atmospheric Administration

50 CFR Part 660

[Docket No. 050701176-5176-01; I.D. 062405B]

RIN 0648-AT47

Fisheries off West Coast States and in the Western Pacific; Western Pacific Bottomfish Fisheries; Main Hawaiian Islands; Control Date

AGENCY: National Marine Fisheries Service (NMFS), National Oceanic and Atmospheric Administration (NOAA), Commerce.

ACTION: Proposed rule; advance notice of proposed rulemaking; establishment of a control date; request for comments.

SUMMARY: NMFS announces that persons who enter the bottomfish fishery in the U.S. exclusive economic zone (EEZ) around the main Hawaiian Islands (MHI) after June 2, 2005, (“control date”) are not guaranteed future participation in the fishery if the Western Pacific Fishery Management Council (Council) prepares and NMFS approves a program limiting entry or effort. This action does not commit the Council or NMFS to limit entry, or prevent any other date from being selected for eligibility to participate in the MHI bottomfish fishery. The Council or NMFS may also use other criteria to limit fishing effort or participation in a limited entry program that is developed in the future.

DATES: Comments must be submitted in writing by August 12, 2005.

ADDRESSES: You may submit comments identified by I.D. 062405B by any of the following methods:

• E-mail: AT47@NOAA.gov. Include in the subject line of the e-mail comment the following document identifier: MHI bottomfish control date. Comments sent via e-mail, including all attachments, must not exceed a 10 megabyte file size.

• Federal e-Rulemaking portal: http://www.regulations.gov. Follow the instructions for submitting comments.

• Mail: William L. Robinson, Administrator, NMFS, Pacific Islands Region (PIR), 1601 Kapiolani Blvd., Suite 1110, Honolulu, HI 96814.

• Fax: 808-973-2941

FOR FURTHER INFORMATION CONTACT: Walter Ikehara, PIR, at 808-973-2937.

SUPPLEMENTARY INFORMATION: On June 2, 2005, the Council adopted a “control date” of June 2, 2005, applicable to persons intending to participate in the fishery (commercial and non-commercial)for bottomfish multi-species stock complex (bottomfish complex) operating in the U.S. EEZ around the MHI. The purpose of this action is to notify fishermen, who may be interested in participating in the fishery, that if they enter this fishery after June 2, 2005, they may not be assured of future access if the Council and/or NMFS decide to limit new entry or limit effort in the fishery. Neither the Council nor NMFS have yet decided whether to limit new entry to this fishery or how new entry might be limited.

Establishment of a control date responds to NMFS' notification to the Council on May 27, 2005,(70 FR 34452, June 14, 2005)that overfishing is occurring in the bottomfish complex around the Hawaiian Archipelago and that management action must be taken by the Council to end this overfishing condition. Since this condition primarily occurs in the MHI, the Council tentatively determined that a limited entry permit program might be utilized to end overfishing in this fishery.

At present, 3,736 fishing vessels are registered for use with State of Hawaii bottomfish permits (commercial and non-commercial), of which 2,101 (56 percent) are classified as commercial fishing vessels. This represents an estimate of fishermen who could be affected by the control date. The MHI bottomfish fishing grounds are located predominantly in State waters (about 80 percent based on the 100-fm contour); however, it is estimated that about 65 percent of the bottomfish fishing trips take place in Federal EEZ waters, based on State of Hawaii 2003 commercial fishing data. Also, approximately 69 percent of the commercial bottomfish landings come from Federal waters. Estimates of recreational catch and effort are unavailable.

Control dates are intended to discourage speculative entry into fisheries, as new entrants entering the fishery after the control date are forewarned that they are not guaranteed future participation in the fishery.

This control date does not commit the Council or NMFS to any particular management regime or criteria for entry into the MHI bottomfish fishery. Fishermen are not guaranteed future participation in this fishery, regardless of their level of participation before or after the control date. The Council may choose a different control date or it may choose a management regime that does not involve a control date. Other criteria, such as documentation of commercial landings and sales, may be used to determine eligibility for participation in a limited access fishery. The Council also may choose to take no further action to control entry or access to the fishery, in which case the control date may be rescinded.

This advance notice of proposed rulemaking has been determined to be not significant for the purposes of Executive Order 12866.

Authority: 16 U.S.C. 1801 et seq.

Dated: July 7 2005.
Rebecca Lent,
Deputy Assistant Administrator for Regulatory Programs, National Marine Fisheries Service.

[FR Doc. 05-13796 Filed 7-12-05; 8:45 am]

BILLING CODE 3510-22-S